INTERNATIONAL TRADE COMMISSION

[Investigation No. 337-TA-1135]

Certain Strength-Training Systems and Components Thereof Commission Determination Not To Review an Initial Determination Granting a Joint Motion To Terminate the Investigation in Its Entirety Based on a Consent Order Stipulation and Proposed Consent Order; Issuance of a Consent Order; Termination of the Investigation

AGENCY: U.S. International Trade Commission.

ACTION: Notice.

SUMMARY: Notice is hereby given that the U.S. International Trade Commission has determined not to review an initial determination (“ID”) (Order No. 11) of the presiding Administrative Law Judge (“ALJ”) granting a joint motion to terminate the investigation in its entirety based on a consent order stipulation and proposed consent order. The Commission has issued a consent order and has terminated the investigation.

FOR FURTHER INFORMATION CONTACT: Michael Liberman, Esq., Office of the General Counsel, U.S. International Trade Commission, 500 E Street SW, Washington, DC 20436, telephone (202) 205-3115. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation under section 337 of the Tariff Act of 1930, as amended, 19 U.S.C. 1337, on October 4, 2018, based on a complaint filed by Hoist Fitness Systems, Inc. of Poway, California (“Complainant”). 83 FR 50120 (Oct. 4, 2018). The complaint, as supplemented, alleges a violation of section 337 in the importation into the United States, the sale for importation, and the sale within the United States after importation of certain strength-training systems and components thereof by reason of infringement of certain claims of U.S. Patent Nos. 7,549,949; 7,563,209; 7,594,880; 7,654,938; and 7,976,440. The complaint named as respondents TuffStuff Fitness International, Inc. of Chino, California (“TuffStuff Fitness”), and Shandong Relax Health Industry Co., Ltd. of Jimo City, Qingdao, Shandong Province, China (“Relax Health”). The Office of Unfair Import Investigations was not named as a party in this investigation. Id. Subsequently, the investigation was terminated as to Relax Health based on the consent order. Order No. 9 dated March 26, 2019 (unreviewed, April 15, 2019).

On May 1, 2019, Complainant and respondent TuffStuff Fitness jointly moved to terminate this investigation in its entirety based on a consent order stipulation and proposed consent order.

On May 28, 2019, the ALJ issued the subject ID. The ALJ found that the consent order stipulation complies with the requirements of Commission Rule 210.21(c)(3), 19 CFR 210.21(c)(3). ID at 2. The ALJ further found that the proposed consent order complies with the requirements of Commission Rule 210.21(c)(4), 19 CFR 210.21(c)(4). Id. The ALJ also found no evidence that terminating this investigation based on the consent order stipulation and the proposed consent order would be contrary to the public interest. Id. at 3. Based on the foregoing, the ALJ granted the joint motion.

No party petitioned for review of the ID. The Commission has determined not to review the ID. The Commission has issued a consent order and has terminated the investigation.

The authority for the Commission's determination is contained in section 337 of the Tariff Act of 1930, as amended, 19 U.S.C. 1337, and in Part 210 of the Commission's Rules of Practice and Procedure, 19 CFR part 210.

By order of the Commission.
Issued: June 24, 2019.
Lisa Barton,
Secretary to the Commission.

[FR Doc. 2019-13784 Filed 6-27-19; 8:45 am]

BILLING CODE 7020-02-P